DEPARTMENT OF TRANSPORTATION

Federal Transit Administration

Limitation on Claims against Proposed Public Transportation Projects

AGENCY: Federal Transit Administration (FTA), DOT.

ACTION: Notice.

SUMMARY: This notice announces a final environmental action taken by the Federal Transit Administration (FTA) for a project in New York, NY. The purpose of this notice is to announce publicly the environmental decision by FTA on the subject project and to activate the limitation on any claims that may challenge this final environmental action.

DATES: By this notice, FTA is advising the public of a final agency action subject to Section 139(l) of Title 23, United States Code (U.S.C.). A claim seeking judicial review of the FTA action announced herein for the listed public transportation project will be barred unless the claim is filed on or before December 23, 2013.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency action by issuing a certain approval for the public transportation project listed below. The action on the project, as well as the laws under which such action was taken, are described in the documentation issued in connection with the project to comply with the National Environmental Policy Act (NEPA) and in other documents in the FTA administrative record for the project. Interested parties may contact either the project sponsor or the relevant FTA Regional Office for more information on the project. Contact information for FTA's Regional Offices may be found at http://www.fta.dot.gov.

This notice applies to all FTA decisions on the listed project as of the issuance date of this notice and all laws under which such action was taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The project and action that are the subject of this notice are:

Project name and location: Second Avenue Subway, New York, NY. Project sponsor: Metropolitan Transportation Authority (MTA). Project description: The Second Avenue Subway Project is the phased construction of a new 8.5-mile subway line under Second Avenue in Manhattan from 125th Street to Hanover Square in Lower Manhattan. It includes 16 new stations that will be accessible by persons with disabilities. FTA has agreed to partially fund the first phase of the project, which will run between 105th Street and 62nd Street and will connect to the existing F Line at 63rd Street. Various changes to Phase 1 of the project, as well as final design of certain elements of Phase 1 of the project, have been evaluated in a number of technical memoranda. In Technical Memorandum No. 11, the MTA proposed to change the location of the street-level portion of Entrance 1 of the 72nd Street Station from within the building at 301 East 69th Street to the east sidewalk of Second Avenue in front of the building at 301 East 69th Street. This notice only applies to the discrete action taken by FTA at this time, as described below. Nothing in this notice affects FTA's previous decisions, or notice thereof, for this project. Final agency action: FTA determination that neither a supplemental environmental impact statement nor a supplemental environmental assessment is necessary. Supporting documentation: Technical Memorandum No. 11, Assessing Design Changes: 72nd Street Station, Entrance 1.

Lucy Garliauskas,
Associate Administrator for Planning and Environment, Washington, DC.

[FR Doc. 2013-17995 Filed 7-25-13; 8:45 am]

BILLING CODE P